DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending June 30, 2014. For purposes of this listing, long-term residents, as defined in section 877(e)(2), are treated as if they were citizens of the United States who lost citizenship.

Last name | First name | Middle name/initials
ABDI | AMANDA | JANE
ABHAYAGUNAWARDHANA | CHAMATH |
ABHAYAGUNAWARDHANA | ENOKA |
ABRAMS | GARY |
AEBI-VON AH | MARIANNE | PAULINA
AESCHBACHER | DUSTIN | MAURICE
AGAFONOVA | NATALYA |
AGHA | ZOHAIR | D.
ALMUDEVAR-VAN SANTEN | MARIA | TERESA
ALNAQEEB | FARRIS | HAMED
ANCTIL | SUSAN | MARIE
ANCTIL | TRISTAN | MARC
ANDREWS | ALISON | LOUISE
ANDRIS | NATASHA | CHYA
ANGEL | HELEN | WEBSTER
ANTHONY | EDWARD | JOHN
ANTILLE | KENT | JOSEPH
ANTILLE | RAE | ANN
AREGGER | DANIEL | PATRICK
ARIAS JR. | GILBERTO |
AWAYA | RYUJI |
BAHN | OLIVIA |
BAILLY | CAROL | ROSELYN
BAKER | CAROL | ANN
BARBOUR-SMITH | JAMES | KENNETH ALEXANDER
BARCENAS | FAUSTINO | G
BARNETT | DEBBY | ANNE
BARRETT | RYAN | TIMOTHY
BARUT | DANIELLE | ANNETTE
BAZINET | ROBERT | PIERRE
BENADOR | ELEANA |
BENGOA | XAVIER | GREGORY
BERBER | RUTH | MARGO
BIRCH | ANDREW | DAVID JONATHAN
BIRCH | JENNIFER | STARR
BIRD | JEFFREY | RONALD
BISHOP-MORRISON | BETH | ANNE
BLONDEEL | HILDE | MARIAN
BOLAND | BARBARA | ANN
BONNYMAN | JAMES | WALLACE TAYLOR
BORDA | ANDREW | NOEL GRIFFITH
BOSSHARD | DANIEL | FRANCIS
BOUKOBZA | EREZ |
BOYER | ELAINE | MARION
BRADFORD | JOHN | PETER
BRADLEY | JASON | ALEXANDER
BRANIGAN | MICHAEL | JORDAN
BRATT | DUANE | KEVIN
BRAY | COLLEEN | ELIZABETH VIRGINIA
BRIGGS | JOHN | RUSSELL
BRIGGS | KATHERINE | T
BRIGGS | ROXANNE | ELIZABETH
BRINKLEY | BRUCE | ALLEN
BRINKLEY | LINDA | SARA
BRINKLEY | MARIE | LOUISE
BROOKS | JENNIFER | ANNE
BROOME | WILLIAM | CHRISTIAN
BROVIG | KRISTINA | MARIE
BROWN | CHARLES | MICHAEL FLECK
BUCHER | ROBERT | PETER
BUNTING | SANDRA | ANN CREAGHAN
BURGESS | MARIA | PHYLLIS
BURIAN | GABRIELA |
BURLANDO | ERIN | LYNN
BURLANDO | NATHAN | TRENT
BURLEY | CHRISTOPHER | ALEXANDER
BUSH | JOSEPH | MICHAEK
BUSSIEN | SONIA | NANCY
BUYTAERT | JEFFREY | JOHN
BUYTAERT | SACHA | PIERRE
CADMAN | CAROLYN | WENDY
CANTONNET | JORGE | ENRIQUE
CAPARAS | JORGE | TENGCO
CAPLAZI | CHRISTOPHER | MARCO
CAPPIELLO | GIUSEPPE | ANTONIO
CARTELIER | ROBBIE | LOIS
CARTER | BURR | NOLAND
CARTER | GLENMORE |
CECIL | BARBARA | JULIA
CHAN | DEE | DEE
CHASE | HERBERT | SCOTT
CHASE | NIKITA |
CHENG | STANLEY | MING-FAI
CHEUNG | RICKY | WING KEY
CHMIEL-MOSHINSKY | CORINNE | TAMARA
CHO | HYO | JAE JACQUELINE
CHO | KATE |
CHO | PECK |
CHOI | JENNIFER |
CLIMACO | CESAR | FLORETA
COCKBURN | MARY | D
CONVERSE | WILLIAM | HENRY
COOKS | ADRIAN | DUMISANI
COOPER | CHRISTOPHER | ROBERT
COPELAND | MARLENE | JULIE
CORBELLA | FRANCESCA | BEATRICE
CORBETT | LINNEA | SUE
CRAIN | LORRIN | CHARLES
CRAMER | CARL |
CREERY | WALTER | DAVID
CRETEGNY | YVONNE | ALICE
CROISIER | MARY | BEATRICE
CROISIER | SOPHIE |
CRUZ | FABIOLA | ESTHER
CUENOUD | GUNDELA | IRMGARD
CURRAT | CATHERINE | ELIZABETH
CURRAT | PHILIPPE | LOUIS
CURRY | JAMES | PATRICK
DA CUNHA | ALEXANDRA | MARIA
DALANG | MARIE | ALIX FRANCOISE
DALANG | ROBERT | CHARLES
DANIELSON | TIMOTHY | ROBERT
DARLING | BEULAH | MAE
DAVIDSON | JENNIFER | LOUISE
DAVIS | SOSYA | RIVKA
DE AZEVEDO | MARIO | DOUYON
DE CASTRO DUARTE | LORENZO | RICCIARDI
DE CLEMENTE | ROBERT |
DE MUSZKA | JEAN-CHRISTOPHE |
DE STEFANO | NICODEMO |
DELALOYE | OLIVIER | EMMANUEL
DELALOYE | SANDRA |
DENERIAZ-DIMOND | MARIANNA | MARQUAND
DEUTSCH | ORI | EMANUEL
DEWARRAT | NATACHA | CLAUDE
DIAMOND | ELIZABETH | LESLIE
DIECKMANN | JOHN | WYLIE
DIETRICH | NATHALIE |
DODKIN | TIMOTHY | CHARLES
DRAKE | ROBERT | CHARLES
DRIEDGER | DIANE | LYNN
DUBACH | MYRA | K. MARTIN
DUNCAN | SHELAH | JOYCE
DURUZ | VALERIE | ANNE
DWEK | PHILIPPE | HENRI
DYCK | KATHLEEN | ELLEN
DYKSHOORN | MARY | ANN
ECCLES | JOANNE | MARIE
ECONOMOU | THEODORE | ALEXANDRE BASILE
EDDY | WILLIAM | RANDOLPH
EDGEET-MERILAINEN | LISA | MICHELE
EHRENSPERGER | MAX |
EIKEN | ASTRID | LIESELOTTE
ELLIS | ALICE | HOBSON
ENGI | JILL | ELLEN
ENSSLIN | ANGELA | SUSAN
ERDMAN | LINDA | RUTH
ERIKSSON | ULF | JOHNNY
ERNAELSTEEN | MARC | EDWARD
ERSKINE | PAMELA | MARIE
ESTEVE | INES | DANIELLE
FARRAGHER | NIELS | PATRICK
FATT | HARRIET | ELIZABETH
FELDER | LINDA | HURD
FELLENZ | HANNS-HEINRICH |
FETTES | CHRISTOPHER | LEE
FIECHTER | JONATHAN | DAVID
FINK | JANINA | FRANCIS
FIRMENICH | LAETITIA | CLARINA
FISCH | CHRISTIANE | MARIE
FISHER | JED | JACOB
FLUKIGER | SIMONE | ANNE
FONG | JONATHON | TIM FAI
FOURNIER | MICHELE | FLORENCE
FRANTZ | ROBERT | H.
FRENCH | PAULETTE |
FROIDEVAUX | BERNARD | DAVID
FRUEH | KATRINA |
FU | JACKSON |
FUNG | CORNELIA | BEATRICE LICHAUCO
FUNG | SABRINA | WING YEE
FURST | IAN | MICHAEL
FUSFELD | JOHANNA | IDA STIEN
FUSTOK | NAHEDA | MANSOUR
GANS | ALEXANDRA | MARIA
GASSMANN | DEBORA | KATHARINA
GAWDIN | RONI | CECILIA
GEHRIG | ANDREA | KATHARINA
GERARD | DIANA | SARAH
GERRARD | PETER | WILLIAM
GERRY | MAXIMILIAN | CHARLES
GFELLER | DIEGO | RETO
GILMORE | KAREN | MARYKE
GMUER | MARCO | SIMON
GOEPFERT | MARC |
GOODINE | GERALD | HALEY
GRAMMATOPOULO | LEA |
GRANATO | BENNY |
GRANT | LYLE | KENNETH
GRAY | ANN | LARK
GRAY | DEVIN | AMANDA AERIAN
GREEN | JASON |
GREEN | TANYA | CAROLINE
GREENSLADE | SUZANNE | LYON
GRIBI | BARBARA | CLAUDIA
GRIFFITH | PATRICK | RALPH BAMBER
GRIFFITHS | JOHN |
HAAF | MEREDITH | SUMMERFIELD
HACKBARTH | DOUGLAS | ALAN
HAFFORD | PATRICE | WYNNE
HAFNER | CLAUDIA | CHRISTINE
HAHN | PAUL |
HAHN | WOO | JIN
HALL | ANDREA | LYNN
HALLWOOD | MARCIA | ANN
HAMAR | KATHLEEN | SLATER
HANSEN | DEBORAH | JANE
HANSEN | JEANETTE | PRENTISS
HAQUE | USMAN | ABDUL
HART | WILLIAM | CHARLES
HASSELQUIST | ANN | HARRIET
HAUERT | CYNTHIA | ANN
HAYDEN | RUTH | YAEL
HEALY | JOSEPH | DYLAN
HERSCHKOWITZ | DANIEL | HILEL
HERZOG-ASLAKSEN | PATRICIA | ELLEN
HICKEY | CLIFFORD | GEORGE
HITCHMAN | SCOTT | CAMERON
HO | JANICE | KATAO
HO | JASON | TSUN YIU
HO | LAURENCE | CHAK CHING
HOFER | KONRAD | HENRY
HOFER | KURT |
HOFMANN | ERIKA |
HOLD | STEPHANIE | VIRGINIA
HOLDSWORTH | JANE | CHRISTY
HOLLANDER | STEPHEN | BURT
HOLLIHAN | BRANDON | ALEXIS
HOLLINGER | LISA | FRAN
HONG | MATTHEW | KEONWOO
HOTCHKISS | RICHARD | LIMGUANGCO
HOU | FELIX | JERRY
HOUSTON | SANDRA | JEAN
HOWALD | STEFAN |
HSU | MARTIN | JOHANNES
HUBERTS | ANNE-MARO | CECILE
HUFFAKER | DEBRA | ANN
HUME | CATHERINE | LOUISA
IRVING | CHLOE |
ISELI | STEFAN | THOMAS
ISELIN | SEAN | CHRISTOPHER
JACKSON | MARY | CHRISTINE
JACOBS | SUSAN | MAXINE
JAGGI | ANDREAS | BRIAN
JEWEL | SHERYL | MIKI
JOHNSON | CAROLINE | FLEMING
JOHNSON | TRISTAN | MURRAY
JONES | JOSEPH | CROSBY
JORDAN | DUSTIN | DWAYNE
JORDAN | LEILANI | LEE
JUBY | BENJAMIN | PAUL
JUDGE | CHRISTOPHER | PAUL
JUDGE | MICHAEL | JAMES
KALYONCU | OMER | FARUK
KARAM | ALFRED | SAMIR
KAUFMANN | ROGER | EDWARD
KELLER | RICHARD | MARTIN
KELLER IMHOF | URSULA | PATRICIA
KEMP | JURG | ANDREAS
KENDRICK-KOCH | LINDSEY | ANN
KHALIL | MICHAEL | WILLIAM
KING | VANESSA | JANE
KINLEY | JACQUELINE | LEE
KIRK | ANGELA | NASTASSIA
KLEMME-WEIDMANN | MICHELE | GILBERTE
KLETKE | MARY | JANE
KLINGLER | URS | CARDON
KNECHT-GUJER | KATRIN |
KNOCH | DARIA |
KOREN | JUDITH | G.
KOTHARI | VIBHA |
KRASNER | ELLA |
KRAUS | PAUL | LOUIS
KREBS | GEORGIA | BERYL
KREIDER | JEFFREY | CARL
KRENGEL | ROBERT |
KUMIN | BARBARA | RITA
LA MANTIA | ROBERTO | FRANCESCO
LANCKNEUS | KATHERINE | LUCETTE
LANDMANN | FLORENCE | LUCIENNE
LANE | SHELLEY | MUNJACK
LAUTERBURG | VINZENZ | DOMINIK
LAZIMBAT | LEO | JOHN
LEE | BRIAN | LIM
LEE | CATHERINE |
LEE | HYUNG | JIN
LEE | JAY |
LEE | LISA |
LEE | OLIVIA | BETSY
LERNER | ABRAHAM | JOSEPH
LEVENE | RACHEL | CLARE
LEVENE | SARAH | JANE
LEVINE | ROBERT | VINCENT
LEWINTON | STEPHEN | CHRISTOPHER
LEWIS | LAURA |
LIEN | HWA | CHU WANG
LIM | JONG-KEOL |
LIN | MICHAEL | HOUNG JUN
LINDER | BRIDGET | MARIETTA
LINGNER | JOHANNA-STEPHANIE | HEIDI
LOMBARDO | DOMINIC | REED
LONSDALE | TIMOTHY | BRANDON
LUEDI | MICHELLE | ALEXANDRA
LUMSDEN-COOK | JAMES | JUSTIN
LYKAS | ANGELIC |
MAALOUF | CLAUDIO | ANDRE
MACKENZIE | WILLIAM | HENRY
MACZAN | MAGDALENA |
MAGSAYSAY | FRANCISCO | DELGADO
MALCA | ELIZABETH | VICTORIA ROHLING
MALTARP | HUGO | MALTA
MANNING | PATRICIA | FRASER
MARBOT | ZOE |
MARCEL | CHRISTOPHE | LOUIS FRANCOIS
MARGARONIS | AFTERPI | ERIMIONI
MARSHALL | TIMOTHY |
MARTEL | DANY | SANDRA
MASSE | LOUISE | C
MATA | ADRIANA |
MATSCHKE | XENIA |
MCCARTHY | STEPHEN | CHARLES
MCCULLOUGH | CAROLYN | SUZANNE
MCDONALD | CATHERINE | MARIE
MCLEAN | JUDITH | ANN
MELIAN | MARIE | CHRISTINE
MELLY | LAURE |
MENASCE-XINIDAKIS | COLETTE | R
MESHIEA | ABDUL | AZIZ
MEYER | BENJAMIN |
MICHAELSON | SARAH | CYNTHIA
MICHAUD | JAMES | MICHAEL
MICHAUD | VIRGINIA | LEE
MILLER | JEFFREY | STEVEN
MILLIET | PASCALE | WALDVOGEL-BAERTSCHI
MILLS | RONALD | HUGH
MINDELL | LARA | DAWN
MITCHELL | SANDRA | G
MOGER | SUSAN | FRANKEL
MONNET-VALIN | ANNE-LAURE |
MORRISSEY | PATRICK | GERARD
MORTIER | REGINA | BERNADETTE
MUELLER | DOROTHY | JEAN
MULLER | JOHANNES | CHRISTOFFEL
MUNEMANN | RUDOLF | MICHAEL
MURPHY | BEATRICE | JEANNE
MURPHY | JOHN | FRANKLIN
MUTTO | FREDERICK |
NATHWANI | KHILEN | PANKAJ
NAWRATIL | SUSANNE | PATRICIA
NIARCHOS | ELECTRA | EUGENIE
NIEM | PETER | BEI-FONG
NILSSON | THOMY | HENNING
NOVERAS | DAVID | ANGALA
NUMAINVILLE | PATRICK | ALAIN JOSEPH
O'BRIEN | CATRIONA | MARY
O'DONNELL | RACHEL | FAITH
OGILVIE | JOHN | A
OHMAE | HIROKI |
OJALA HIRST | CONNOR | BRENNAN
OLDE | ERNEST | JACOB
OLIPHANT | GREG | LEONARD
ONG | MELANIE | SHANNON SY
OTTENBACHER | VIIA |
PACKARD | SIMON | SEBASTIAN
PALMER | JENNIFER | ANNE
PALMER | ROBERT | DOMINIC
PAN | MALIRA |
PAQUIN | MARGUERITE | GILBERTE
PAREL | JENNIFER | NICOLE
PARKER | MARJORIE | ANNE
PARSONS | ANDREW | CHARLES RICHARD
PATEL | KUSH | VIMAL
PATERSON | CORDELIA | LYNN
PAUL | HILARY | ANNE
PFEUTI | CAROLE | MURIEL
PIEREN | MARC | PATRICK
PILET | ALEX | JULIEN
PIROUE | JEROME |
PITTET-SEELY | MARY | SEELY
PLATTNER | KATRIN | ELISABETH
PORTMANN | ANTON | JOSEPH
PORTMANN | HEIDI |
POSEY | MARK | ROBERT
POTTIE | LISA | MARIE
PRADERVAND | CLAUDE | PASCAL
PRESTON | INGRID | KAREN
PRIFTI | LISA | MARGARET
PRIOVOLOS | ANNA | CRADDOCK
PRIOVOLOS | BARBARA | LYONS
RAES | DANIEL | ERNEST
RAFIQ | MARIA |
RAUS | ROBERT | ULRICH
RE LEVY | KHODABAKSH | AZARIA
REARDON | KATHERINE | GENEVIEVE
REIHER | PATRICK | STEPHANE
REINHART | MARC | PETER
RENT | NANCY | HELEN
REVERDIN | BRIGITTE | ANNE
REYNOLDS | CLAIRE | MICHELLE
RHYNER | SIMON | JAKOB
RIBI | SONJA |
RICHMOND | ANNE | CAROLYN
RILEY | TIMOTHY | O.
RISNER | MARC | STEVEN
RITTER | JOHN | ALEXANDER
ROBERTSON | ANGELA | YVONNE
ROSE | WENDY | LEE
ROSENGARTEN | DVORA | GITEL
ROSTEN | CLAIRE | ELIZABETH
ROTHDRAM | BARBARA | JANE
ROULIN | MARIE-JOSE | EUGENIE
ROY | DANIEL | JOHN
RUSSELL | CHERYL | ANN
RUSSI | NICO |
RUTTAN | MELINDA | STARR
RYEBURN | MICHAEL | VICTOR
SABATINO | CLAUDIO | FLAVIO
SACA | JORGE |
SAENZ | DANIEL |
SAGE | ALEXANDER | ERIC
SAGER | HEDWIG | S
SANTOS | JOHN | RICHARD F
SANTOS | LAWRENCE | HUANG DE LOS
SASSON | YOAV | JACOB
SAUER | KAROLINE | SOPHIE
SAUER | MARIE | CHRISTINE
SAYLOR | STANLEY | GENE
SCHACHTER | RON | ARMIN
SCHALLER | QUENTIN | CHRISTOPHER
SCHENKER | BERNHARD | PETER
SCHEUNER | PIERRE | ANDRE
SCHLAEFLI | REINHARD | OTTO
SCHMID | LAURA | NATALIE
SCHMIDLIN | FRANZ | ROMUALD
SCHOBER | EDWARD | ALBERT
SCHOCH | IAN | ALEXANDER
SCHUL | GERALDINE | COLETTE
SCHULZ | URSULA | ANNE
SCHUT | DIEDERIK | HENDRIK
SCHWANINGER | ERIC |
SCHWANINGER | NANCY | JEAN
SCHWARZ | SARAH | CATHERINE
SCHWOB | DANIEL | ROBERT MAX
SEDIGH-ZADEH | RAHA |
SEEBERGER | ANDRES | DANIEL
SEELY | VIVIAN | MAY
SEILER | LUCAS |
SELBIE | JONATHAN | NELS GEORGE
SELBIE | JOYCE | EILEEN
SENESE | MARIANNE |
SEPULCHRE | PATRICK | CHARLES
SERAGELDIN | KAREEM | MOHAMED
SERRANO | SAMUEL | STEFFEN
SEXSMITH | MIRIAM | NEW
SEXTY | MATTHEW | WILLIAM
SEXTY | SUZANNE |
SHAW | REBECCA | MAE
SHERER | JOSHUA | ANTHONY
SHERWIN | FLORENCE | VIVIAN
SHIN | HO | LIM
SHOHET | JAMES | MENCHI
SHREE | SHAMLA |
SHU | RAYMOND | YOW-JEN
SHUBS | SHANA | JAELLE
SIDHALL | MARIANNE | CAROLINE
SIGOUIN | MEGAN | MALLORY
SILBERMAN | NATHALIE | KATHARINA
SINGER | RHODA | MORGENSTERN
SLEEMAN | JANE | ELIZABETH
SLOAN | PETER | JOSEPH
SOMMER | FRED |
SONG | FRANCIS | YOUGEUN
SOTAK | MARK | STEVEN
SPENCER | SANDRA | MARIE
SPIELMAN | GEOFFREY |
SPIELMAN | MERYL | ANN
STINGLHAMBER | LIONEL |
STRANGE | LUCY | HILL
STRAUCH | LORETTA | SANNA
STUCKI | SASKIA | LEONIE
STUCKI | VERA | CYNTHIA
SUEK | JENNIFER | WING WO
SUNDELIN | THERESE | AMANDA CAROLINA
SUNDERLAND | CHERYL | ANN
SUTER | ANDREW | MAX
SUTER | DANIELA | ANDREA
TARSHIS | SONDRA | MICHELLE
TASSILO | DAVID |
TAYLOR | ANNA | NATALIA BRAUN
TAYLOR | KATHLEEN | ISABEL
TEITLER | NATHALIE | SUSANA HILLARY
TENENBAUM-FRIEDMAN | TAMARA | LYNN
TETZLAFF | SANDRA | JOAN
THERIAULT | LEE | NELSON
THOMAS | BERTRAND | YVES
TIBERINI | FERNANDO | BENJAMIN
TILSTON | DAVID | FRANK
TOMITA | HARUMI |
TOMLINSON | KAYLA | SUE
TONG | SHARON |
TOPIC | WINIFRED | CAROL
TORRIE | CRAIG | CONRAD
TORRIE | ERIC | ALBERT
TREVES | SUSAN | NELLA
TRIMBLE | JACQUELINE | J
TRIPATHI | GAUTAM |
TSE | ERIC | S Y
TURENNE | PIERRE | RENI
UCAL | AVNI | C.
UCAL | BENGU |
VALIN | STEVEN | ERIC
VALLE JR. | RODRIGO |
VAN GINDERTAEL | MARC | LAURENT
VAN GORKOM | TRAVIS | ROLLAND
VAN WAGNER | JOHN | CLARE
VASILEVSKY | CAROL-ANN |
VEITCH | NICHOLAS | ALEXANDER
VERDENIUS | FENNA | MARLIES
VERDENIUS-CHURCHILL | GAIL | ALINE
VESELY | ROBERT | ANTHONY
VIOLETTE | ROBERT | ROMEO
VIOLETTE | SYLVIA | LUCILLE
VOGEL | RANDOLPH | GORDON
VON GYMNICH | PATRICIA | CAROLINE GRAEFIN BEISSEL
WAIBEL | VANESSA |
WAJIMA | MASAYUKI |
WAKEAM | IVY | GALE
WALDVOGEL | SANDRA | REGINA
WALKER | ANN | MARIE
WANG | CHIH | YAO
WANG | POU-I | LEE
WATSON | STUART | DAVID
WAUGH | CHRISTOPHER | RICHARD
WEAVER | LARRY | EUGENE
WEAVER | NINA | LEE
WEBER | MARTIN |
WEGMANN | YVONNE |
WEHRLI | JOHANN | CARL
WEHRLI | MARIANNE | ELISABETH
WEIBEL | FLORIAN | FELIX
WEIBEL | JESSICA | ESTHER
WEIL | SAMUEL | FREDERICK
WEIMER | NORRIS | YVES
WEISER | SARA | ANN
WELCH | LUKE | PATRICK
WENDEL | ROSALIE |
WENGER | ANTHONY | LEE
WERENFELS | ISABELLE | ANITA
WETTSTEIN | BENJAMIN | MARK
WHEATLAND | MARY | THERESA
WHITE | CHAE | SUK
WHITE | DEAN | EDWARD
WILDMAN-WEBBER | CYNTHIA | JAMIE
WILLIAMS | MADELEINE | ROSE
WILLIS | CAROLINE | FIONA
WILSON | SUZANNE | SQUIER
WITTGEN | MARK | ANTHONY
WOOD | LINDSEY | CLAIRE
WOOD | PAMELA | ESPERITA ROSE
WOODRUFF | JULIANNE |
WOODTLI | MIRJAM | ANDREA
WU | EDWARD | C
YAGI | TAKESHI |
YAMAMICHI | HISASHI | JAMES
YANG | JOSEPH | EUGENE
YANG | JOSEPH | JISOO
YAZER | MYRNA | JACQUELINE
YEO | CHI | HAN
YEUNG | BECKY | BIK-KAY
YIP | WILLIAM |
YOO | HYUN | JOON
YOUNG | DAVID | EARL
YOUNG | LAUREN | ELIZABETH
YOUNG | MARY | ALISON
ZADOTTI | MARISA | VALERIA
ZWAANS | CHRISTINE | SYLVIE

Date: July 18, 2014.
Frances Fay,
Manager Team 103, Examinations Operations—Philadelphia Compliance Services.

[FR Doc. 2014-18712 Filed 8-6-14; 8:45 am]

BILLING CODE 4830-01-P